DEPARTMENT OF LABOR

Employment and Training Administration

[NAFTA-05193]

Micro Motion, Inc., Boulder, Colorado; Including Temporary Workers of Aorist Enterprises, Inc. and Staffing Solutions Employed at Micro Motion, Inc., Boulder, Colorado; Amended Certification Regarding Eligibility To Apply for NAFTA-Transitional Adjustment Assistance

In accordance with section 250(A), Subchapter D, Chapter 2, Title II, of the Trade Act of 1974 (19 USC 2273), the Department of Labor issued a Certification for NAFTA Transitional Adjustment Assistance on October 2, 2001, applicable to workers of Micro Motion, Inc., Boulder, Colorado. The notice published in the Federal Register on October 19, 2001 (66 FR 53252).

At the request of the State agency, the Department reviewed the certification for workers of the subject firm. Information provided by the State shows that some employees of the subject firm were temporary workers from Aorist Enterprises, Inc., Lakewood, Colorado and Staffing Solutions, Longmont, Colorado to produce mass flow meters and electronic transmitters at the Boulder, Colorado location of the subject firm.

Based on these findings, the Department is amending the certification to include temporary workers of Aorist Enterprises, Inc., Lakewood, Colorado and Staffing Solutions, Longmont, Colorado who were engaged in the production of mass flow meters and electronic transmitters at Micro Motion, Inc., Boulder, Colorado.

The intent of the Department's certification is to include all workers of Micro Motion, Inc., Boulder, Colorado adversely affected by a shift in production of mass flow meters and electronic transmitters to Mexico.

The amended notice applicable to NAFTA-05193 is hereby issued as follows:

All workers of Micro Motion, Inc., Boulder, Colorado, including temporary workers of Aorist Enterprises, Inc. and Staffing Solutions engaged in the production of mass flow meters and electronic transmitters at Micro Motion, Inc., Boulder, Colorado, who became totally or partially separated from employment on or after August 7, 2000, through October 2, 2003, are eligible to apply for NAFTA-TAA under section 250 of the Trade Act of 1974.

Signed at Washington, DC, this 28th day of January, 2002.
Linda G. Poole,
Certifying Officer, Division of, Trade Adjustment Assistance.

[FR Doc. 02-2695 Filed 2-4-02; 8:45 am]

BILLING CODE 4510-30-M